DEPARTMENT OF THE INTERIOR

National Park Service

Notice of Inventory Completion: Phoebe A. Hearst Museum of Anthropology, University of California, Berkeley, Berkeley, CA

AGENCY: National Park Service, Interior.

ACTION: Notice.

Notice is here given in accordance with the Native American Graves Protection and Repatriation Act (NAGPRA), 25 U.S.C. 3003, of the completion of an inventory of human remains in the possession of the Phoebe A. Hearst Museum of Anthropology, University of California, Berkeley, Berkeley, CA. The human remains were removed from San Diego County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

An assessment of the human remains, and catalog records and associated documents relevant to the human remains, was made by Phoebe A. Hearst Museum of Anthropology professional staff in consultation with representatives of the Pala Band of Luiseno Mission Indians of the Pala Reservation, California.

In 1907, human remains representing at least two individuals were removed from an unknown location in northeast San Diego County, CA, by T.T. Waterman and donated to the Phoebe A. Hearst Museum of Anthropology the same year. The site was located on “Warner's Ranch,” approximately 5 miles north of the Warner house, and 4 miles northwest of Warner Springs (also known at the time as Warner Hot Springs and as Aqua [sic] Caliente). No known individuals were identified. No associated funerary objects are present.

The village site at Warner's Ranch belonged to the Cupeno Tribe. After eviction by a later owner, the Cupeno, in 1903, were moved to the Pala Reservation where their descendents still live. The Pala Reservation is now known as the Pala Band of Luiseno Mission Indians. The historic era burial practice, the existence of historic textiles, which are integral with the human remains, and the general location indicate that the human remains were Cupeno.

Officials of the Phoebe A. Hearst Museum of Anthropology have determined that, pursuant to 25 U.S.C. 3001 (9-10), the human remains described above represent the physical remains of at least two individuals of Native American ancestry. Officials of the Phoebe A. Hearst Museum of Anthropology also have determined that, pursuant to 25 U.S.C. 3001 (2), there is a relationship of shared group identity that can be reasonably traced between the Native American human remains and the Pala Band of Luiseno Mission Indians of the Pala Reservation, California.

Representatives of any other Indian tribe that believes itself to be culturally affiliated with the human remains should contact C. Richard Hitchcock, NAGPRA Coordinator, Phoebe A. Hearst Museum of Anthropology, University of California, Berkeley, Berkeley, CA 94720, telephone (510) 642-6096, before March 4, 2005. Repatriation of the human remains to the Pala Band of Luiseno Mission Indians of the Pala Reservation, California may proceed after that date if no additional claimants come forward.

The Phoebe A. Hearst Museum of Anthropology is responsible for notifying the Pala Band of Luiseno Mission Indians of the Pala Reservation, California that this notice has been published.

Dated: December 20, 2004
Sherry Hutt,
Manager, National NAGPRA Program.

[FR Doc. 05-1955 Filed 2-1-05; 8:45 am]

BILLING CODE 4312-50-S